DEPARTMENT OF THE INTERIOR

National Park Service

[NPS-WASO-NAGPRA-NPS0036807; PPWOCRADN0-PCU00RP14.R50000]

Notice of Inventory Completion: Bandy Heritage Center for Northwest Georgia, Dalton State College, Dalton, GA

AGENCY: National Park Service, Interior.

ACTION: Notice.

SUMMARY: In accordance with the Native American Graves Protection and Repatriation Act (NAGPRA), the Bandy Heritage Center for Northwest Georgia, Dalton State College has completed an inventory of human remains and has determined that there is a cultural affiliation between the human remains and Indian Tribes or Native Hawaiian organizations in this notice. The human remains were removed from Johnson County, TX.

DATES: Repatriation of the human remains in this notice may occur on or after November 24, 2023.

ADDRESSES: Adam Ware, Bandy Heritage Center for Northwest Georgia, Dalton State College, 650 College Drive, Dalton, GA 30720, telephone (706) 712-8218, email aware@daltonstate.edu.

SUPPLEMENTARY INFORMATION: This notice is published as part of the National Park Service's administrative responsibilities under NAGPRA. The determinations in this notice are the sole responsibility of the Bandy Heritage Center for Northwest Georgia, Dalton State College. The National Park Service is not responsible for the determinations in this notice. Additional information on the determinations in this notice, including the results of consultation, can be found in the inventory or related records held by the Bandy Heritage Center for Northwest Georgia, Dalton State College.

Description

Human remains representing, at minimum, one individual were removed from Johnson County, TX. In the autumn of 1860, J.J. Bostick removed a lock of hair from a male member of the Comanche Nation and enclosed it in a letter to family in Villanow, GA, dated December 25, 1860. Subsequently, the descendants of J.J. Bostick donated the lock of hair to Dalton State College for inclusion in the Bandy Heritage Center for Northwest Georgia's collections. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Bandy Heritage Center for Northwest Georgia, Dalton State College has determined that:

• The human remains described in this notice represent the physical remains of one individual of Native American ancestry.

• There is a relationship of shared group identity that can be reasonably traced between the human remains described in this notice and the Comanche Nation, Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 24, 2023. If competing requests for repatriation are received, the Bandy Heritage Center for Northwest Georgia, Dalton State College must determine the most appropriate requestor prior to repatriation. Requests for joint repatriation of the human remains are considered a single request and not competing requests. The Bandy Heritage Center for Northwest Georgia, Dalton State College is responsible for sending a copy of this notice to the Indian Tribe identified in this notice.

Authority: Native American Graves Protection and Repatriation Act, 25 U.S.C. 3003, and the implementing regulations, 43 CFR 10.9, § 10.10, and § 10.14.

Dated: October 18, 2023.
Melanie O'Brien,
Manager, National NAGPRA Program.

[FR Doc. 2023-23550 Filed 10-24-23; 8:45 am]

BILLING CODE 4312-52-P